OFFICE OF THE UNITED STATES TRADE REPRESENTATIVE

Request for Comments and Notice of the Third United States-Mexico-Canada Agreement Environment Committee Meeting

AGENCY: Office of the United States Trade Representative (USTR).

ACTION: Request for comments and notice of committee meetings.

SUMMARY: The Parties to the United States-Mexico-Canada Agreement (USMCA) intend to hold the third meeting of the Environment Committee (Committee) on September 27, 2023. Following the government-to-government Committee meeting, the Committee will hold a virtual public session on implementation of the USMCA environment chapter. USTR seeks comments suggesting topics to be discussed during the Committee meeting, and questions for the public session.

DATES:

September 8, 2023, at 11:59 p.m. EDT: Deadline for submission of written comments suggesting topics for the Committee meeting and questions for the public session.

September 27, 2023, from 9:00 a.m. to 3:30 p.m. EDT: The Parties will host the third meeting of the Environment Committee.

September 27, 2023, from 4:00 p.m. to 5:00 p.m. EDT: The Parties will host a virtual public session of the Committee.

ADDRESSES: Submit written comments and/or your interest in joining the public session to Judith Webster, Director for Environment and Natural Resources, by email at judith.a.webster@ustr.eop.gov with the subject line USMCA Environment Committee Meeting.

FOR FURTHER INFORMATION CONTACT: Judith Webster, Director for Environment and Natural Resources, at judith.a.webster@ustr.eop.gov, or 202-881-7318.

SUPPLEMENTARY INFORMATION:

I. Background

Article 24.26 of the USMCA establishes an Environment Committee composed of senior government representatives to oversee implementation of chapter 24, the environment chapter, and provide a forum to discuss and review chapter implementation. The USMCA requires the Committee to meet within one year of the date of entry into force of the USMCA and every two years thereafter unless the Committee agrees otherwise. The Committee last met on September 23, 2022, and agreed to hold another meeting in 2023. All decisions and reports of the Committee will be made publicly available, unless the Committee decides otherwise. The Committee will provide for public input on matters relevant to the Committee's work, as appropriate, and hold a public session at each meeting.

II. Committee Meeting

On September 27, 2023, the Committee will meet in a government-to-government session to (1) review implementation of chapter 24 (Environment), and discuss how the Parties are meeting their chapter 24 obligations; and (2) receive a presentation from the Commission on Environmental Cooperation Secretariat on cooperation and public submissions for enforcement matters. This session will not be open to the public.

III. Public Session on USMCA Chapter 24 Implementation

Following the government-to-government session, the Committee invites all interested persons to attend a virtual public session on USMCA Chapter 24 implementation. At the session, the Committee will welcome questions, input, and information concerning the Parties' implementation of the chapter 24 obligations. The Committee will cover both questions raised in comments submitted to USTR, and those submitted through a live chat function during the public session, overseen by a moderator. Information on how to register for the live session will be available at https://ustr.gov/trade-agreements/free-trade-agreements/united-states-mexico-canada-agreement/benefits-environment-united-states-mexico-canada-agreement by September 8, 2023, or you can email Judith Webster, Director for Environment and Natural Resources, at judith.a.webster@ustr.eop.gov for a link to join the live session.

IV. Comments

USTR invites comments on topics and issues for the U.S. government to consider as it prepares for the Committee meeting, and specific questions for the public session. As noted, during the public session, there also will be an allotted time for the public to ask questions through a chat function overseen by a moderator. Accordingly, participation in the public session is not limited to the questions submitted through comments in advance of the session. When preparing comments, we encourage submitters to refer to Chapter 24 of the USMCA: https://ustr.gov/sites/default/files/IssueAreas/Environment/USMCA_Environment_Chapter_24.pdf.

Kelly Milton,
Assistant U.S. Trade Representative for Environment and Natural Resources, Office of the United States Trade Representative.

[FR Doc. 2023-18152 Filed 8-22-23; 8:45 am]

BILLING CODE 3390-F3-P